DEPARTMENT OF HOUSING AND URBAN DEVELOPMENT

[Docket No. FR-5916-N-04]

60-Day Notice of Proposed Information Collection: Public Housing Annual Contributions Contract and Inventory Removal Application

AGENCY: Office of the Assistant Secretary for Public and Indian Housing, PIH, HUD.

ACTION: Notice of revised proposed information collection.

SUMMARY: HUD is seeking approval from the Office of Management and Budget (OMB) for the information collection described below. In accordance with the Paperwork Reduction Act, HUD is requesting comment from all interested parties on the proposed collection of information. The purpose of this notice is to allow for 60 days of public comment.

The public housing program funds low-rent projects owned and operated by public housing agencies (PHAs), subject to the terms and conditions contained in an Annual Contributions Contract (ACC) with certain requirements applicable to all projects and other requirements applicable in only certain conditions or types of projects. These program requirements govern how properties are funded and operated by PHAs including how properties are added or removed from their inventories. Information collections from PHAs assure compliance with all Federal program requirements.

DATES: Comments Due Date: May 2, 2016.

ADDRESSES: Interested persons are invited to submit comments regarding this proposal. Comments should refer to the proposal by name and/or OMB Control Number and should be sent to: Colette Pollard, Reports Management Officer, QDAM, Department of Housing and Urban Development, 451 7th Street SW., Room 4176, Washington, DC 20410-5000; telephone 202-402-5564 (this is not a toll-free number) or email at Colette.Pollard@hud.gov for a copy of the proposed forms or other available information. Persons with hearing or speech impairments may access this number through TTY by calling the toll-free Federal Relay Service at (800) 877-8339.

FOR FURTHER INFORMATION CONTACT: Arlette Mussington, Office of Policy, Programs and Legislative Initiatives, PIH, Department of Housing and Urban Development, 451 7th Street SW., (L'Enfant Plaza, Room 2206), Washington, DC 20410; telephone 202-402-4109, (this is not a toll-free number). Persons with hearing or speech impairments may access this number via TTY by calling the Federal Information Relay Service at (800) 877-8339. Copies of available documents submitted to OMB may be obtained from Ms. Mussington.

SUPPLEMENTARY INFORMATION: This notice informs the public that HUD is seeking approval from OMB for the information collection described in Section A.

A. Overview of Information Collection

Title of Information Collection: Public Housing Annual Contributions Contractor and Inventory Removal Application.

OMB Approval Number: 2577-0075.

Type of Request: Revision of a currently approved collection.

Form Number: HUD-51999; HUD-52190A; HUD-52190B; HUD-52840-A; HUD-53012A, HUD-53012B, HUD 52860, HUD 52860-B, HUD 52860-C; HUD 52860-D; HUD 52860-E, and HUD 52860-F, HUD-52860-G, HUD-5838 and HUD-5837.

Description of the need for the information and proposed use: HUD previously amended this information collection to consolidate all information that PHAs are required to submit to HUD in connection with their contractual duties to operate public housing dwelling units and other real property under the U.S. Housing Act of 1937. Section 5 of the United States Housing Act of 1937 (Pub. L. 75-412, 50 Stat. 888) permits the Secretary of HUD to make annual contributions to public housing agencies (PHAs) to achieve and maintain the lower income character of public housing projects. The Secretary is required to embody the provisions for such annual contributions in a contract guaranteeing payment. Applicable regulations are 24 CFR 941 for public housing development and 24 CFR 969 for continued operation of low-income housing after completion of debt service. This information collection also covers Public Housing Authority (PHA) submissions under Sections 18, 22, 33 and 32 that involve the authority of the HUD Secretary to approve PHA requests to remove certain public housing property from their inventories through demolition, disposition, voluntary conversion, required conversion, or homeownership conveyance, conversion through the Rental Assistance Demonstration Program (RAD) (authorized by the Consolidated and Further Continuing Appropriations Act of 2012), and any other HUD approved action that will remove Public Housing units from the ACC.

This amendment of this collection does two things. First, it adds submission requirements (HUD-52860-G) for when a PHA may choose to voluntarily apply to HUD to retain non-dwelling public housing real property free from public housing use restrictions under the Annual Contributions Contract (ACC) and Declaration of Trust (DOT) pursuant to 2 CFR 200.311(c)(1). HUD considers retentions under this section of part 200 a “removal” of public housing real property even though the PHA will be retaining ownership of the property since the property will no longer be subject to public housing use restrictions. HUD will only approve retention requests when non-dwelling property is no longer needed for its originally authorized purpose. Second, it adds new submission requirements (HUD-5838 and HUD-5837) to collect information from any PHA who intends to remove all of its public housing dwelling units from its inventory (through any available law or HUD program, which may include Sections 18, 22, 33, 32 of the U.S. Housing Act of 1937 or the Rental Assistance Demonstration (RAD) program) and will alert HUD to its future plans for either termination of the public housing ACC or development of new dwelling units. Please note that a PHA who removes all public housing dwelling units will be instructed to fill out either HUD-5838 or HUD-5837, not both. HUD will use the information collected in HUD-5838 to review any PHA requests for expending Operating or Capital Funds for eligible closeout activities, for extension on closeout activities, for provision of technical assistance to the PHA during its required closeout activities, and determine eligibility for the Asset Repositioning Fee (ARF) or Demolition or Disposition Transitional Funding (DDTF). HUD will use the information in HUD-5837 to monitor compliance with the Public Housing ACC following removal of all dwelling units, to provide relevant technical assistance to the PHA, and to determine eligibility for the Asset Repositioning Fee (ARF) or Demolition or Disposition Transitional Funding (DDTF). In addition, this information request will assist HUD in maintaining accurate records of the federal public housing stock.

The functions and activities for Public Housing Annual Contributions Contractor, under OMB control number 2577-0270, has been combined with the Public Housing Inventory Removal Application, currently approved collection 2577-0075. The Office of Management and Budget (OMB) approved discontinuation of OMB Control Number, 2577-0270.

Respondents: Public housing agencies.

ACC Provision | Total responses | Total hours | Cost per hour | ($) Total cost
1. Execute new ACC via HUD form 53012-A and B | 42 | 205 | $24.34 | $4,990
2. Terminate or amend ACC | 78 | 390 | 24.34 | 9,493
3. Request HUD approval of non-dwelling leases or agreements | 114 | 735 | 24.34 | 17,890
4. HUD approval for easement uses | 48 | 3,524 | 24.34 | 8,567
5. Submit General Depository Agreement (GDA) via form HUD 51999 | 265 | 651 | 24.34 | 15,845
6. Request to terminate GDA | 107 | 202 | 24.34 | 4,917
7. ACC revisions to change year end dates | 23 | 257 | 24.34 | 6,255
8. ACC to consolidate PHAS | 18 | 217 | 24.34 | 5,282
9. ACC revision to transfer programs | 43 | 391 | 24.34 | 9,517
10. Request review of Conflict of interest | 102 | 951 | 24.34 | 23,147
11. Request pooling of insurance | 5 | 97 | 24.34 | 2,361
12. Request for new Declaration of Trust (DOT) via form HUD 52190-A and B | 142 | 1,249 | 24.34 | 30,400
13. Request DOT amendment or termination | 221 | 2031 | 24.34 | 49,435
14. Amend ACC for Capital Fund Finance via form HUD 52840-A | 73 | 788 | 24.34 | 19,180
15. Amend ACC for Mixed Finance Supplementary Legal Document | 94 | 1,981 | 50 | 99,050
16. Amend ACC for Capital Grant | 2,820 | 11,070 | 24.34 | 269,443
17. Amend ACC for Emergency Capital Fund Grant | 38 | 100 | 24.34 | 2,434
18. Amend ACC Capital Fund for Safety and Security | 75 | 96 | 24.34 | 2,337
19. Amend ACC to Recapture Capital Fund Grant | 123 | 643 | 24.34 | 15,650
20. Amend ACC for Energy Performance Contract | 38 | 192 | 24.34 | 4,673
21. Amend ACC for Community Facilities Grants | 13 | 28 | 24.34 | 682
22. Demo Disposition Approvals and Removing Units form ACC-HUD Form 52860 | 162 | 1,746 | 24.34 | 42,498
23. Chicago Special Applications Center Approval for Inventory Removal Applications | 851 | 6,010 | 33.06 | 225,072
24. Supplementary Document: Unique Legal Document used by HQ Staff Mixed-Finance Amendment to the ACC | 60 | 1,440 | 50 | 72,000
Totals | 6,765 | 34,944 |  | 927,423

B. Solicitation of Public Comment

This notice is soliciting comments from members of the public and affected parties concerning the collection of information described in Section A on the following:

(1) Whether the proposed collection of information is necessary for the proper performance of the functions of the agency, including whether the information will have practical utility;

(2) The accuracy of the agency's estimate of the burden of the proposed collection of information;

(3) Ways to enhance the quality, utility, and clarity of the information to be collected; and

(4) Ways to minimize the burden of the collection of information on those who are to respond; including through the use of appropriate automated collection techniques or other forms of information technology, e.g., permitting electronic submission of responses.

HUD encourages interested parties to submit comment in response to these questions.

Authority: Section 3507 of the Paperwork Reduction Act of 1995, 44 U.S.C. Chapter 35.

Date: February 23, 2016.
Merrie Nichols-Dixon,
Deputy Director, Office of Policy, Programs and Legislative Initiatives.

[FR Doc. 2016-04495 Filed 2-29-16; 8:45 am]

BILLING CODE 4210-67-P